NATIONAL SCIENCE FOUNDATION

Advisory Committee for Education and Human Resources; Notice of Meeting

In accordance with the Federal Advisory Committee Act (Pub. L. 92-463, as amended), the National Science Foundation announces the following meeting:

Name: Advisory Committee for Education and Human Resources (#1119).

Date/Time:

November 5, 2008; 8:30 a.m. to 5 p.m.

November 6, 2008; 8:30 a.m. to 12 p.m.

Place: National Science Foundation Headquarters, Stafford Place I—Room 1235, 4201 Wilson Boulevard, Arlington VA 22230.

Type of Meeting: Open.

Contact Person: James Colby, National Science Foundation, 4201 Wilson Boulevard, Arlington, VA 22230, (703) 292-5331, jcolby@nsf.gov.

If you are attending the meeting and need access to the NSF, please contact the individual listed above so your name may be added to the building access list.

Purpose of Meeting: To provide advice with respect to the Foundation's science, technology, engineering, and mathematics (STEM) education and human resources programming.

Agenda:

November 5, 2008

Assistant Director's Remarks

Discussion of Selected Programs that Support:

• Broadening Participation to Improve Workforce Development

• Promoting Learning Through Research and Evaluation

Review and Acceptance of Committee of Visitor Reports

• Scholarships in STEM

• ADVANCE (Increasing the Participation and Advancement of Women in Academic Science and Engineering Careers)

• Graduate Teaching Fellows in K-12 Education, and the Integrative Graduate Education and Research Traineeship (IGERT) programs

November 6, 2008

Review and Acceptance of Committee of Visitor Reports (continued from Wednesday)

• Informal Science Education (ISE) and the Innovative Technology Experiences for Students and Teachers (ITEST) programs

• Math and Science Partnership (MSP) program

Visit with the NSF Director.

Future Issues for Consideration.

Dated: October 14, 2008.
Susanne Bolton,
Committee Management Officer.

[FR Doc. E8-24656 Filed 10-16-08; 8:45 am]

BILLING CODE 7555-01-P